DEPARTMENT OF ENERGY

Federal Energy Regulatory Commission

[Docket No. EL01-88-000]

Louisiana Public Service Commission and the Council of the City of New Orleans, Louisiana Complainant, v. Entergy Corporation, Entergy Services, Inc., et al.; Notice of Complaint

June 15, 2001.

Take notice that on June 14, 2001, the Louisiana Public Service Commission and the Council of the City of New Orleans filed with the Federal Energy Regulatory Commission (Commission), a Complaint against Entergy Corporation, Entergy Services, Inc., Entergy Louisiana, Inc., Entergy Gulf States, Inc., Entergy Arkansas, Inc., Entergy Mississippi, Inc., Entergy New Orleans, Inc. and System Energy Resources, Inc. seeking amendments to the Entergy System Agreement or Unit Power Sales Agreement of System Energy Resources, Inc. to remedy a disruption of rough production cost equalization among the Operating Companies of the Entergy System. The Complaint requests that the Commission act by July 31, 2001 to set the case for hearing and that, pursuant to a settlement agreement in Louisiana Public Service Comm'n, et al v. Entergy Corp., et al, Docket Nos. EL00-66-000, ER00-2854-00, and EL95-33-002, direct that the case be handled under a schedule for exceptionally complex cases (Track 3).

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before July 5, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before July 5, 2001. Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15600 Filed 6-20-01; 8:45 am]

BILLING CODE 6717-01-M